DEPARTMENT OF COMMERCE

Foreign-Trade Zones Board

[Docket 57-2009]

Foreign-Trade Zone 202—Los Angeles, CA, Area Application for Reorganization/Expansion

An application has been submitted to the Foreign-Trade Zones (FTZ) Board (the Board) by the Board of Harbor Commissioners of the City of Los Angeles, grantee of FTZ 202, requesting authority to reorganize and expand its zone in the Los Angeles area within and adjacent to the Los Angeles-Long Beach Customs and Border Protection port of entry. The application was submitted pursuant to the provisions of the Foreign-Trade Zones Act, as amended (19 U.S.C. 81a-81u), and the regulations of the Board (15 CFR part 400). It was formally filed on December 11, 2009.

FTZ 202 was approved on July 14, 1994 (Board Order 693, 59 FR 37464, 7/22/94), expanded on August 26, 1996 (Board Order 842, 61 FR 46763, 9/5/96) and on July 9, 1999 (Board Order 1043, 64 FR 38887, 7/20/99), and expanded/reorganized on April 30, 2004 (Board Order 1331, 69 FR 26065, 5/11/04) and on April 24, 2009 (Board Order 1616, 74 FR 21623, 5/8/09).

The zone project currently consists of 16 permanent and temporary sites located at port facilities, industrial parks and warehouse facilities in Los Angeles, San Bernardino, Kern and Riverside Counties as described below:

• Site 1 (2,783 acres total)—consists of the Port of Los Angeles Harbor Complex in San Pedro;

• Site 2 (3 acres total) located: At 1 World Way within the Los Angeles International Airport (Parcel 1—1 acre); at 5330 W. 102nd Street, Los Angeles (Parcel 2—1.5 acres); and, at 1111 Watson Center Road, Unit 2-A, B-C, Carson (Parcel 3—22,705 sq. ft.);

• Site 3 (564 acres)—within the International Trade & Technology Center, Santa Fe Highway at 7th Standard Road, Kern County;

• Site 4 (353.6 acres)—within the 438-acre Carson Dominguez Technology Center south of the Artesia Freeway, between the Harbor Freeway and I-710 in the City of Carson and the Rancho Dominguez area of Los Angeles County;

• Site 5 (8.51 acres total, sunset 4/30/2014)—warehouse facilities of 3Plus Logistics located at 20250 South Alameda Street in Rancho Dominguez (6.13 acres) and at 2730 El Presidio Street in Carson (2.38 acres);

• Site 6 (23 acres)—located at 20002 E. Business Parkway, Walnut;

• Site 7 (93 acres)—within the 140-acre Pacific Gateway Center, at the southwest corner of the San Diego Freeway Interchange, Los Angeles;

• Site 9 (22.87 acres total): Parcel A (5.61 acres)—19700 Van Ness Avenue, Torrance; and, Parcel C (7.26 acres)—1451 Knox Street, Torrance;

• Site 10 (325 acres)—Watson Industrial Center South, 22010 South Wilmington Avenue, Carson;

• Site 11 (153.79 acres)—Watson Corporate Center located at 22010 South Wilmington Avenue and at 2417 East Carson Street in Carson;

• Site 12 (8 acres, expires 7/31/2011)—Schafer Brothers Distribution Center, Inc., 1981 East 213th Street, Carson;

• Site 14 (33 acres, expires 7/31/2011)—Nippon Express USA, Inc., located adjacent to Site 1, at 300 Westmont Street, San Pedro;

• Site 15 (4 acres)—located at 1020 McFarland Avenue, Wilmington;

• Site 20 (21 acres, expires 7/31/2011)—Kwikset Corporation facilities located within the Park Mira Loma West, southeast side of the Intersection of Highway 60 (the Pomona Freeway) and Interstate 15 (the Ontario Freeway), Mira Loma;

• Site 23 (177 acres, sunset 3/31/2013)—within the 1,450-acre Tejon Industrial Complex located directly off Interstate 5 at the Highway 99 junction, Lebec; and,

• Temporary Site 2 (2.4 acres, expires 6/30/2010)—a warehouse located at 2200 and 2250 Technology Place, Long Beach.

There is an application pending for a proposed new zone project in the Bakersfield, California, area (Doc. 18-2009). That application is requesting a transfer of FTZ 202—Site 23 (Tejon Industrial Complex) to the Bakersfield zone project as proposed Site 2.

The applicant is now requesting authority for a reorganization and expansion of the zone which would result in an overall net increase of zone sites and space. As described below, the proposal includes a request for new authority for expired sites/parcels, to delete an existing site, for permanent status for temporary sites, and to add a new site.

• Expand Site 1 by requesting new authority for the Howard Hartry parcel (0.39 acres, 10,833 sq. ft.) (which expired on 7/1/09) (new total acreage—2,783 acres);

• Delete Site 6 in its entirety due to changed circumstances;

• Expand Site 9 by requesting new authority for Parcel B (7 acres) (which expired on 7/1/09) (new total acreage—29.87 acres);

• Modify Site 12 by requesting permanent status;

• Modify and expand Site 14 by requesting permanent status for the current 33 acres and requesting new authority for 55 acres (which expired on 7/1/09) (new total acreage—88 acres);

• Requesting new authority for 4.16 acres at Site 16 (which had previously consisted of 153.20 acres that expired on 7/1/09);

• Requesting new authority for 18.5 acres at Site 19 (which had previously consisted of 83.16 acres that expired on 7/1/09);

• Modify Site 20 by requesting permanent status for the current 21 acres and to expand the site to include an additional 120.79 acres (113.37 acres that expired on 7/1/09 and a new 7.42-acre parcel) (new total acreage—141.79 acres);

• Requesting new authority for 84 acres at Site 22 (which had previously consisted of 227 acres that expired on 7/1/09); and,

• Add Proposed Site 24 (5 acres)—RPM Transport warehouse facility located at 2200 and 2250 Technology Place, Long Beach (this site will include Temporary Site 2 (2.4 acres) on a permanent basis and add an additional 2.6 acres).

The sites will provide warehousing and distribution services to area businesses. No specific manufacturing authority is being requested at this time. Such requests would be made to the Board on a case-by-case basis.

In accordance with the Board's regulations, Christopher Kemp of the FTZ Staff is designated examiner to evaluate and analyze the facts and information presented in the application and case record and report findings and recommendations to the Board.

Public comment is invited from interested parties. Submissions (original and 3 copies) shall be addressed to the Board's Executive Secretary at the address below. The closing period for their receipt is February 16, 2010. Rebuttal comments in response to material submitted during the foregoing period may be submitted during the subsequent 15-day period to March 3, 2010.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Christopher Kemp at Christopher.Kemp@trade.gov or (202) 482-0862.

Dated: December 11, 2009.
Andrew McGilvray,
Executive Secretary.

[FR Doc. E9-30196 Filed 12-17-09; 8:45 am]

BILLING CODE 3510-DS-P